NUCLEAR REGULATORY COMMISSION

[Docket Nos. 50-498 and 50-499; License Nos. NPF-76 and NPF-80]

STP Nuclear Operating Company; Receipt of Request for Action Under 10 CFR 2.206

Notice is hereby given that by petition dated May 16, 2006, and its supplement dated June 26, 2006, Mr. Glenn Adler (petitioner) has requested that the U.S. Nuclear Regulatory Commission (NRC) take action with regard to South Texas Project Electric Generating Station. The petitioner requests that NRC take enforcement action in the form of a Demand for Information that would require the STP Nuclear Operating Company (STPNOC), the licensee for the South Texas Project Electric Generating Station (STP), to provide NRC with docketed copies of the following:

• Any assessments of the safety conscious work environment (SCWE) at STP conducted since January 1, 2004;

• Summaries of any associated action plans and the results of any efforts to remedy problems revealed by these surveys, including the following documents mentioned at an August 2005 meeting apparently convened to discuss the plant's SCWE, which contains—

—a [strengths, weaknesses, opportunities, and threats] SWOT analysis to assess the issues and actions required and follow-up on these actions to improve station alignment,

—outsourcing lessons learned, and

—an evaluation of information technology, supply chain, technical training, and Wackenhut to assess the issues and recommended actions;

• Summaries of any associated action plans and the results of efforts to remedy problems revealed by such surveys in 2001 and 2003; and

• All correspondence between NRC, STPNOC, and Wackenhut Corporation concerning the 2001, 2003, and 2005 Comprehensive Cultural Assessments (CCAs).

As a basis for this request, the petitioner states that NRC issued an order in 1998 requiring STP to conduct periodic surveys by an independent survey research firm, after NRC found that the licensee had violated Federal law by subjecting four employees to a “hostile work environment” after the employees raised safety concerns. The licensee hired Synergy Consulting Services Corporation to conduct surveys. The Wackenhut Corporation took over security at STP in July 2001, after winning a 3-year contract for security, with an option for an additional 2 years. The petitioner further states that in the 2001 and 2003 CCAs, Wackenhut scored poorly on independent surveys assessing the STPNOC's nuclear safety culture, safety conscious work environment, general culture and work environment, leadership, management, and supervisory skills and practices at STP. The petitioner states that the STPNOC's performance deteriorated below its 2001 performance and that Wackenhut's performance problems continued as indicated in the 2005 CCA. The petitioner also states that STPNOC's action plans apparently were not successful in respect to Wackenhut and other entities and it is important for NRC to scrutinize the steps taken by STPNOC to rectify problems identified in the 2001, 2003, and 2005 cultural surveys. The petitioner concludes that, by obtaining the documents identified, NRC will be better informed about any improvements in STPNOC's SCWE. The petitioner also concludes that NRC will be better able to assess the effectiveness of previous redresses with Wackenhut and other entities, for whom problems persisted, despite STPNOC's apparently repeated efforts to remedy them.

The request is being treated pursuant to Title 10 of the Code of Federal Regulations Section 2.206 (10 CFR 2.206) of the Commission's regulations. As provided by 10 CFR 2.206, the agency will take appropriate action on this petition within a reasonable time. A copy of the petition is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr@nrc.gov.

Dated at Rockville, Maryland, this 31st day of July 2006.
For the Nuclear Regulatory Commission.
J.E. Dyer,
Director, Office of Nuclear Reactor Regulation.

[FR Doc. E6-12912 Filed 8-8-06; 8:45 am]

BILLING CODE 7590-01-P